DEPARTMENT OF JUSTICE

[OMB Number 1105-0102]

Agency Information Collection Activities; Proposed eCollection eComments Requested; Guam World War II Loyalty Recognition Program Statement of Claim

AGENCY: Foreign Claims Settlement Commission, Department of Justice.

ACTION: 60-Day notice.

SUMMARY: The Foreign Claims Settlement Commission (Commission), Department of Justice (DOJ), will be submitting the following information collection request to the Office of Management and Budget (OMB) for review and approval in accordance with the Paperwork Reduction Act of 1995.

DATES: Comments are encouraged and will be accepted for 60 days until June 19, 2020.

FOR FURTHER INFORMATION CONTACT: If you have additional comments especially on the estimated public burden or associated response time, suggestions, or need a copy of the proposed information collection instrument with instructions or additional information, please contact Jeremy LaFrancois, Foreign Claims Settlement Commission, 600 E Street NW, Suite 6002, Washington, DC 20579.

SUPPLEMENTARY INFORMATION: Written comments and suggestions from the public and affected agencies concerning the proposed collection of information are encouraged. Your comments should address one or more of the following four points:

—Evaluate whether the proposed collection of information is necessary for the proper performance of the functions of the Foreign Claims Settlement Commission, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1 Type of Information Collection: Extension.

2 The Title of the Form/Collection: Statement of Claim for filing of Claims in the Guam Claims Program Pursuant to the Guam World War II Loyalty Recognition Act, Title XVII, Public Law 114-328 (December 23, 2016)

3 The agency form number, if any, and the applicable component of the Department sponsoring the collection: FCSC-2. Foreign Claims Settlement Commission, Department of Justice.

4 Affected public who will be asked or required to respond, as well as a brief abstract:

Primary: Individuals.

Other: Estates.

Abstract: Information will be used as a basis for the Commission to receive, examine, adjudicate and render final decisions with respect to claims for compensation of claims pursuant to the Guam World War II Loyalty Recognition Act, Title XVII, Public Law 114-328 (December 23, 2016).

5 An estimate of the total number of respondents and the amount of time estimated for an average respondent to respond: It is estimated that 5,000 individual respondents will complete the application, and that the amount of time estimated for an average respondent to reply is approximately two hours each.

6 An estimate of the total public burden (in hours) associated with the collection: 10,000 annual burden hours.

If additional information is required contact: Melody D. Braswell, Department Clearance Officer, United States Department of Justice, Justice Management Division, Policy and Planning Staff, Two Constitution Square, 145 N street NE, 3E.405A, Washington, DC 20530.

Dated: April 15, 2020.
Melody D. Braswell,
Department Clearance Officer for PRA,U.S. Department of Justice.

[FR Doc. 2020-08323 Filed 4-17-20; 8:45 am]

BILLING CODE 4410-BA-P